DEPARTMENT OF DEFENSE

Department of the Army; Corps of Engineers

Notice of Intent To Prepare an Environmental Impact Statement/Environmental Impact Report for the Ballona Creek Ecosystem Restoration Feasibility Study, Los Angeles County, CA

AGENCY: Department of the Army, U.S. Army Corps of Engineers, DoD.

ACTION: Notice of intent.

SUMMARY: The Los Angeles District intends to prepare an Environmental Impact Statement/Environmental Impact Report (EIS/EIR) to support a cost-shared ecosystem restoration feasibility study with the Santa Monica Bay Restoration Commission. The proposed project study areas has been degraded by encroachment of non-native plants, placement of fill from Marina Del Rey, interruption of the hydrologic regime, trash accumulation, and varied attempts at bank protection along the creek using rock and concrete. Direct benefits of the proposed project include improved habitat and water quality, reductions in waste and trash, and aesthetics. The watershed is an important resource for both recreational uses and for fish, and wildlife and further degradation could jeopardize remaining. The purpose of the feasibility study is to evaluate alternatives for channel modification, habitat restoration (coastal and freshwater wetlands and riparian), recreation, and related purposes along the lower reach of the Ballona Creek.

DATES: A public scoping meeting will be held on September 29, 2005 at 6 p.m.

ADDRESSES: U.S. Army Corps of Engineers, Los Angeles District, CESPL-PD, P.O. Box 532711, Los Angeles, CA 90053 and Santa Monica Bay Restoration Commission, 320 West 4th Street, Los Angeles, CA 90013.

FOR FURTHER INFORMATION CONTACT: Shannon Dellaquila, Project Environmental Manager, at (213) 452-3850 or Malisa Martin, Project Study Manager at (213) 452-3828.

SUPPLEMENTARY INFORMATION:

1. Authorization

This study was prepared as an interim response to the following authorities provided by Congress under Section 216 of the Flood Control Act of 1970, which states:

The Secretary of the Army, acting through the Chief of Engineers, is authorized to review the operation of projects the construction of which has been completed and which were constructed by the Corps of Engineers in the interest of navigation, flood control, water supply, and related purposes, when found advisable due the significantly changed physical or economic conditions, and to report thereon to Congress with recommendations on the advisability of modifying the structures or their operation, and for improving the quality of the environment in the overall public interest;

supplemented by House Resolution on Public Works and Transportation dated September 28, 1994 which states:

The Secretary of the Army is requested to review the report of the Chief of Engineers on Playa del Rey Inlet and Basin, Venice, California, published as House Document 389, Eighty-third Congress, Second Session, and other pertinent reports, to determine whether modifications of the recommendations contained therein are advisable at present time, in the interest of navigation, hurricane and storm damage reduction, environmental restoration, and other purposes at Marina del Rey Harbor, Los Angeles, California, with consideration given to disposal of contaminated sediments from the entrance channel required under the existing operation and maintenance program at Marina del Rey.

2. Background

The Ballona Creek Ecosystem Restoration study area lies within Los Angeles County, CA and includes portions of Marina del Rey, Culver City, Playa del Rey, and the City of Los Angeles. The study area, a component of the greater Ballona Creek Watershed, includes the lower reach of Ballona Creek extending southwest from Cochran Avenue, in Los Angeles, to Pacific Ocean in Marina del Rey. specific features of the Ballona Creek watershed, including existing and historic wetland areas, the Ballona Lagoon, Del Rey Lagoon, Venice Canal, Grand Canal, the Oxford Drain and the Ballona Channel and tributaries, will be addressed in this study.

The greater Ballona Creek system drains a watershed of approximately 329 square kilometers (81,300 acres), and is the largest tributary that drains into the Santa Monica Bay. Ballona Creek collects runoff from several partially urbanized canyons on the south slopes of the Santa Monica Mountains as well as from intensely urbanized areas of West Los Angeles, Culver City, Beverly Hills, Hollywood, and parts of Central Los Angeles. The urbanized areas account for 80 percent of the watershed area, and the partially developed foothills and mountains make up the remaining 20 percent. The watershed boundary includes the Santa Monica Mountains on the north, the unincorporated area known as Baldwin Hills, and the City of Inglewood on the south.

The Ballona Creek Ecosystem Restoration study footprint's southern boundary is defined by the Westcheste Bluffs, which run southwest from the San Diego (405) Freeway beyond Loyola Marymount University. The western boundary extends from the Pacific Ocean. The eastern boundary begins where Ballona Creek daylights at Cochran Avenue and Venice Boulevard in a section of Los Angeles known as the Mid City. Tributaries of Ballona Creek include Centinela Creek, Sepulveda Canyon Channel, Benedict Canyon Channel, and numerous storm drains.

The Ballona Creek watershed ecosystem has been altered by intense land development, encroachment of non-native plants, trash accumulation, and varied attempts at bank protection along the creek using rock and concrete. Although an important function of the Ballona Creek is as a flood control channel, the lower watershed is still an important resource for both recreational uses and for fish and wildlife habitat. Further impairment could jeopardize remaining habitat. This study will evaluate opportunities for habitat restoration (including wetland and riparian habitat), improvements to water quality, trash mitigation, and recreation and related purposes along the lower reach of the Ballona creek.

3. Problems and Needs

At least ninety (90) percent of historic coastal wetlands in California have been lost due to filing, dredging, flood control and intensive development. Within the Lower Ballona Creek Watershed, remaining fragmented wetland areas have been degraded due to diminished hydraulic function, poor water quality and introduction of exotic plants and animals. While functioning wetland systems and riparian habitat remain, they are stressed.

• Channelization of the Ballona Creek and filling of historic wetland and riparian areas have contributed to degradation and loss of habitat due to impeded tidal exchange and circulation.

• Contaminated stormwater runoff and trash loading has degraded Ballona Creek water quality.

• Habitat alteration and loss has decreased biodiversity and overall ecological health, threatening the survival of native endangered species such as the California least tern (Sterna antillarum brown), snowy plover (Charadrius alexandrinus), and the Belding's Savannah Sparrow (Sandwichensis beldingi).

• The current design of the Flood Control channel has resulted in a lack of recreational opportunities and is considered aesthetically challenged.

• At present there is no integrated approach and partnership amongst stakeholders to resolve lower Ballona Creek in-stream and wetland degradation issues, which has led to uncoordinated and sometimes redundant and unsuccessful improvement measures.

4. Proposed Action and Alternative

The Los Angeles District will investigate and evaluate all reasonable alternatives to address the problems and need stated above. In addition to a without project (No Action) Alternative, both structural and non-structural environmental measures will be investigated. An assessment of the feasibility of removing impervious surfaces from the Ballona Channel will also be evaluated. Proposed restoration measures include: re-grading and removal of fill, remove invasive and non-native plant species, reintroduction of a water source and installation of native plants to restore previously filled coastal wetlands. Other measures to be evaluated include features to improve or restore tidal regime in Oxford Basin, the Grand and Venice canals, and Ballona and Del Rey Lagoons; the potential for in stream wetland development in Centinela, Sepulveda and Ballona Creek; sediment loading in the upper watershed; and related recreation and educational opportunities.

5. Scoping Process

The scoping process is on-going, and has involved preliminary coordination with Federal, State, and local agencies and the general public. A public scoping meeting is scheduled for Thursday September 29th from 6-8 p.m. at the Rotunda Room of the Veteran's Memorial Building, 4117 Overland Avenue, Culver City, CA. This information is being published in the local news media, and a notice is being mailed to all parties on the study mailing list to ensure that public will have an opportunity to express opinions and raise any issues relating to the scope of the Feasibility Study and the Environmental Impact Study/Environmental Impact Report. The public as well as Federal, state, and local agencies are encouraged to participate by submitting data, information, and comments identifying relevant environmental and socioeconomic issues to be addressed in the study. Useful information includes other environmental studies, published and unpublished data, alternatives that could be addressed in the analysis, and, potential mitigation measures associated with the proposed action. All comments will be considered in the project development. Concerns may be submitted in writing to the Santa Monica Bay Restoration Commission, or to the Los Angeles District (see ADDRESSES). Comments, suggestions, and request to be placed on the mailing list for announcements should be sent to MaLisa Martin (see ADDRESSES) or by e-mail to MaLisa.M.Martin@ sp101.usace.army.mil.

Availability of the Draft EIS/EIR

The Draft EIS/EIR is scheduled to be published and circulated in December 2007, and a public hearing to receive comments on the Draft EIS/EIR will be held after it is published.

Dated: September 13, 2005.
Alex C. Dornstauder,
Colonel, U.S. Army, District Engineer.

[FR Doc. 05-18651 Filed 9-19-05; 8:45 am]

BILLING CODE 3710-KF-M